DEPARTMENT OF HOMELAND SECURITY

Federal Emergency Management Agency

[Docket ID FEMA-2016-0002; Internal Agency Docket No. FEMA-B-1646]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: August 18, 2016.
Roy E. Wright,
Deputy Associate Administrator for Insurance and Mitigation, Department of Homeland Security, Federal Emergency Management Agency.

State and county | Location and case No. | Chief executive officer of community | Community map repository | Online location of letter of map revision | Effective date of modification | Community No.
Colorado: Teller | City of Woodland Park (16-08-0585P) | The Honorable Neil Levy, Mayor, City of Woodland Park, City Hall, 220 West South Avenue, Woodland Park, CO 80866 | City Hall, 220 West South Avenue, Woodland Park, CO 80866 | http://www.msc.fema.gov/lomc. | Nov. 3, 2016 | 080175
Idaho:
Bonneville | City of Ammon (16-10-0506P) | The Honorable Dana Kirkham, Mayor, City of Ammon, City Hall, 2135 South Ammon Road, Ammon, ID 83406 | City Hall, 2135 South Ammon Road, Ammon, ID 83406 | http://www.msc.fema.gov/lomc | Nov. 18, 2016 | 160028
Bonneville | Unincorporated Areas of Bonneville County (16-10-0506P) | Mr. Roger Christensen, Chairman, Bonneville County Board of Commissioners, 605 North Capital Avenue, Idaho Falls, ID 83402 | Bonneville County Courthouse, 605 North Capital Avenue, Idaho Falls, ID 83402 | http://www.msc.fema.gov/lomc | Nov. 18, 2016 | 160027
Illinois:
Will | City of Lockport (15-05-2936P) | The Honorable Steven Streit, Mayor, City of Lockport, 222 East 9th Street, Lockport, IL 60441 | Public Works and Engineering, 17112 South Prime Boulevard, Lockport, IL 60441 | http://www.msc.fema.gov/lomc | Oct. 31, 2016 | 170703
Will | City of Naperville (15-05-5882P) | The Honorable Steve Chirico, Mayor, City of Naperville, 400 South Eagle Street, Naperville, IL 60540 | City Hall, 400 South Eagle Street, Naperville, IL 60540 | http://www.msc.fema.gov/lomc | Nov. 7, 2016 | 170213
Will | Unincorporated Areas of Will County (15-05-2936P) | The Honorable Lawrence M. Walsh, County Executive, Will County, Will County Office Building, 302 North Chicago Street, Joliet, IL 60432 | Land Use Department, 58 East Clinton Street, Suite 100, Joliet, IL 60432 | http://www.msc.fema.gov/lomc | Oct. 31, 2016 | 170695
Will | Unincorporated Areas of Will County (15-05-5882P) | The Honorable Lawrence M. Walsh, County Executive, Will County, Will County Office Building, 302 North Chicago Street, Joliet, IL 60432 | Land Use Department, 58 East Clinton Street Suite 100, Joliet, IL 60432 | http://www.msc.fema.gov/lomc | Nov. 7, 2016 | 170695
Indiana:
Delaware | City of Muncie (16-05-1816P) | The Honorable Dennis Tyler, Mayor, City of Muncie, City Hall, 300 North High Street 3rd Floor, Muncie, IN 47342 | Delaware County Building, 100 West Main Street, Room 206, Muncie, IN 47305 | http://www.msc.fema.gov/lomc | Nov. 10, 2016 | 180053
Delaware | City of Muncie (16-05-2551P) | The Honorable Dennis Tyler, Mayor, City of Muncie, City Hall, 3rd Floor, 300 North High Street, Muncie, IN 47305 | Delaware County Building, 100 West Main Street, Room 206, Muncie, IN 47305 | http://www.msc.fema.gov/lomc | Oct. 14, 2016 | 180053
Delaware | Town of Yorktown (16-05-2551P) | The Honorable Rich Lee, President, Town of Yorktown, 9800 West Smith Street, Yorktown, IN 47396 | Town Hall, 9800 West Smith Street, Yorktown, IN 47396 | http://www.msc.fema.gov/lomc | Oct. 14, 2016 | 180361
Hamilton | City of Noblesville (16-05-2763P) | The Honorable John Ditslear, Mayor, City of Noblesville, 16 South 10th Street, Noblesville, IN 46060 | City Hall, Department of Planning and Zoning, 16 South 10th Street Suite 150, Noblesville, IN 46060 | http://www.msc.fema.gov/lomc | Nov. 4, 2016 | 180082
Hamilton | UnincorporatedAreas of Hamilton County (16-05-2763P) | The Honorable Steve Dillinger, President, Hamilton County Board of, Commissioners, 1 Hamilton County Square, Suite 157, Noblesville, IN 46060 | Hamilton County Government and Judicial Center, 1 Hamilton County Square, Noblesville, IN 46060 | http://www.msc.fema.gov/lomc | Nov. 4, 2016 | 180080
Kansas: Rice | City of Lyons (16-07-1283P) | The Honorable Michael Young, Mayor, City of Lyons, 201 West Main Street, P.O. Box 808, Lyons, KS 67554 | City Hall, 201 West Main Street, Lyons, KS 67554 | http://www.msc.fema.gov/lomc | Nov. 4, 2016 | 200295
Minnesota: Clay | City of Moorhead (16-05-3467P) | The Honorable Del Rae Williams, Mayor, City of Moorhead, Moorhead City Hall, 500 Center Avenue, Moorhead, MN 56561 | City Hall, 500 Center Avenue, Moorhead, MN 56561 | http://www.msc.fema.gov/lomc | Nov. 11, 2016 | 275244
Nebraska: Lincoln | City of North Platte (16-07-0952P) | The Honorable Dwight Livingston, Mayor, City of North Platte, 211 West 3rd Street, North Platte, NE 69101 | City Hall, 211 West 3rd Street, North Platte, NE 69101 | http://www.msc.fema.gov/lomc | Oct. 26, 2016 | 310143
New Jersey: Monmouth | Borough of Highlands (16-02-0850P) | The Honorable Frank Nolan, Mayor, Borough of Highlands, Administrative Offices, 42 Shore Drive, Highlands, NJ 07732 | Highlands Borough Hall, 171 Bay Avenue, Highlands, NJ 07732 | http://www.msc.fema.gov/lomc | Nov. 28, 2016 | 345297
Virginia: Independent City | City of Newport News (16-03-0266P) | The Honorable McKinley L. Price, Mayor, City of Newport News, City Council, 2400 Washington Avenue, Newport News, VA 23607 | Department of Engineering, 2400 Washington Avenue, Newport News, VA 23607 | http://www.msc.fema.gov/lomc | Nov. 4, 2016 | 510103
Wisconsin:
Dane | City of Madison (16-05-3204P) | The Honorable Paul R. Soglin, Mayor, City of Madison, 210 Martin Luther King Jr. Boulevard, Room 403, Madison, WI 53703 | City Hall, 210 Martin Luther King Jr. Boulevard, Room 403, Madison, WI 53703 | http://www.msc.fema.gov/lomc | Oct. 27, 2016 | 550083
Dane | Unincorporated Areas of Dane County (16-05-3204P) | Mr. Joe Parisi, County Executive, Dane County, City County Building, 210 Martin Luther King Jr. Boulevard, Room 421, Madison, WI 53703 | City County Building, 210 Martin Luther King Jr. Boulevard, Room 116, Madison, WI 53703 | http://www.msc.fema.gov/lomc | Oct. 27, 2016 | 550077
Eau Claire | Unincorporated Areas of Eau Claire County (16-05-4739X) | Mr. Gregg Moore, County Board Chair, Eau Claire County, 721 Oxford Avenue, Eau Claire, WI 54703 | Eau Claire County Courthouse, 721 Oxford Avenue, Eau Claire, WI 54703 | http://www.msc.fema.gov/lomc | Oct. 26, 2016 | 555552
Kenosha | Unincorporated Areas of Kenosha County (16-05-2093P) | Mr. Edward Kubicki, County Board Supervisor, Kenosha County, Administrative Building, 1010 56th Street, Kenosha, WI 53140 | Kenosha County Department of Planning and Development, 19600 75th Street, Kenosha, WI 53140 | http://www.msc.fema.gov/lomc | Oct. 25, 2016 | 550523

[FR Doc. 2016-22787 Filed 9-21-16; 8:45 am]

BILLING CODE 9110-12-P